DEPARTMENT OF STATE

[Public Notice 8746]

Meeting on United States-Oman Free Trade Agreement Environment Chapter Implementation, Joint Forum on Environmental Cooperation, and Public Session

AGENCY: Department of State.

ACTION: Announcement of meetings; solicitation of suggestions; invitation to public session.

SUMMARY: The Department of State and the Office of the United States Trade Representative (USTR) are providing notice that the governments of the United States and Oman intend to hold a meeting to review implementation of the Environment Chapter of the United States-Oman Free Trade Agreement (FTA), the United States-Oman Joint Forum on Environmental Cooperation (Joint Forum), and a public session in Muscat, Oman, on June 4 and 5, 2014, at a venue to be announced.

The governments of the United States and Oman (the governments) created the Joint Forum pursuant to the United States-Oman Memorandum of Understanding on Environmental Cooperation (MOU), signed on February 20, 2006. During the Joint Forum meeting, the governments will discuss how the United States and Oman can strengthen Oman's capacity to protect and conserve its environment, highlight past bilateral environmental cooperation, review activities under the 2011-2014 Plan of Action, and commit to a 2014-2017 Plan of Action. The Department of State and USTR invite the members of the public to submit written suggestions on items to include on the meeting agenda or in the 2014-2017 Plan of Action.

The Department of State and USTR also invite interested persons to attend a public session where the public will have the opportunity to ask about implementation of both the MOU and the Environment Chapter of the United States-Oman FTA.

DATES: The public session will be held on June 5, 2014, in Muscat, Oman at a venue to be announced. Suggestions on the Joint Forum meeting agenda and/or the 2014-2017 Plan of Action should be provided no later than June 2, 2014, to facilitate consideration.

ADDRESSES: Those interested in attending the public session should email Geoff Finger at FingerGT@state.gov to find out the time and place of the session. Suggestions on the Joint Forum meeting agenda and/or the 2014-2017 Plan of Action should be emailed to FingerGT@state.gov or faxed to Geoff Finger at (202) 647-5947, with the subject line “United States-Oman Environmental Cooperation.” Those with access to the internet can view and comment on this notice by going to: http://www.regulations.gov/#!home and searching on docket number DOS-2014-0011.

FOR FURTHER INFORMATION CONTACT: Geoff Finger, (202) 647-4828.

SUPPLEMENTARY INFORMATION: In the MOU, the governments (1) recognize “the importance of strengthening capacity to protect the environment while promoting sustainable development in concert with the expanded bilateral trade relationship that will accompany the United States-Oman Free Trade Agreement (FTA)” and (2) indicate their intent “to cooperate in the field of environmental and natural resource protection and sustainable development.” In the Environment Chapter of the United States-Oman FTA, the governments likewise “recognize the importance of strengthening capacity to protect the environment and to promote sustainable development in concert with strengthening bilateral trade and investment relations.” The governments express their commitment to undertaking cooperative environmental activities pursuant to the MOU. In Section 2 of the MOU, the governments establish the Joint Forum to coordinate and review environmental cooperation activities. As envisioned in the MOU, the Joint Forum will “develop a Plan of Action; review and assess cooperative environmental activities undertaken pursuant to the Plan of Action; recommend ways to improve cooperation; and undertake such other activities as the Governments may deem to be appropriate.” The Plan of Action is a tool to establish goals, objectives, and areas for cooperation, including short-, medium-, and long-term bilateral and/or regional projects and activities. Through this notice, the United States is soliciting the views of the public with respect to the Plan of Action.

In January 2012, the governments established the 2011-2014 Plan of Action for environmental cooperation with the following primary areas of cooperation: (1) Strengthening Environmental Laws, Including Natural Resource-Related Laws; (2) Disaster Preparedness; (3) Biodiversity Conservation and Improved Management of Protected Areas, and Other Ecologically Important Ecosystems; (4) Cleaner Production and Environmental Technology; and (5) Environmental Education and Public Participation in Environmental Issues. The United States anticipates the 2014-2017 Plan of Action will build upon the cooperative work initiated in the 2011-2014 Plan of Action.

Members of the public, including NGOs, educational institutions, private sector enterprises, and all other interested persons, are invited to submit written suggestions regarding items for inclusion in the meeting agendas or in the new Plan of Action. Please include your full name and identify any organization or group you represent. We encourage submitters to refer to:

• United States-Oman Memorandum of Understanding on Environmental Cooperation,

• 2011-2014 Plan of Action Pursuant to the United States-Oman Memorandum of Understanding on Environmental Cooperation,

• Chapter 17 of the United States-Oman Free Trade Agreement,

• Final Environmental Review of the United States-Oman Free Trade Agreement.

These documents are available at: http://www.state.gov/e/oes/eqt/trade/oman/index.htm.

Dated: May 21, 2014.
Deborah Klepp,
Director, Office of Environmental Quality and, Transboundary Issues, U.S. Department of State.

[FR Doc. 2014-12347 Filed 5-27-14; 8:45 am]

BILLING CODE 4710-09-P